DEPARTMENT OF ENERGY

Federal Energy Regulatory Commission

Combined Notice of Filings

Take notice that the Commission has received the following Natural Gas Pipeline Rate and Refund Report filings:

Filings Instituting Proceedings

Docket Numbers: RP14-184-000.

Applicants: Natural Gas Pipeline Company of America.

Description: Natural Gas Pipeline Company of America LLC submits tariff filing per 154.204: Renaissance Neg Rate to be effective 11/20/2013.

Filed Date: 11/19/13.

Accession Number: 20131119-5113.

Comments Due: 5 p.m. ET 12/2/13.

Docket Numbers: RP14-185-000.

Applicants: Natural Gas Pipeline Company of America.

Description: Natural Gas Pipeline Company of America LLC submits tariff filing per 154.204: Tenaska Negotiated Rate to be effective 11/20/2013.

Filed Date: 11/19/13.

Accession Number: 20131119-5117.

Comments Due: 5 p.m. ET 12/2/13.

Docket Numbers: RP14-186-000.

Applicants: Natural Gas Pipeline Company of America.

Description: Natural Gas Pipeline Company of America LLC submits tariff filing per 154.204: NJR Negotiated Rate Filing to be effective 11/21/2013.

Filed Date: 11/19/13.

Accession Number: 20131119-5118.

Comments Due: 5 p.m. ET 12/2/13.

Docket Numbers: RP14-187-000.

Applicants: Natural Gas Pipeline Company of America.

Description: Natural Gas Pipeline Company of America LLC submits tariff filing per 154.204: Negotiated Rate—NJR Energy to be effective 11/21/2013.

Filed Date: 11/19/13.

Accession Number: 20131119-5120.

Comments Due: 5 p.m. ET 12/2/13.

Docket Numbers: RP14-188-000.

Applicants: Natural Gas Pipeline Company of America.

Description: Natural Gas Pipeline Company of America LLC submits tariff filing per 154.204: Negotiated Rate for Tenaska to be effective 11/20/2013.

Filed Date: 11/19/13.

Accession Number: 20131119-5122.

Comments Due: 5 p.m. ET 12/2/13.

Docket Numbers: RP14-189-000.

Applicants: Natural Gas Pipeline Company of America.

Description: Natural Gas Pipeline Company of America LLC submits tariff filing per 154.204: Negotiated Rate—Tenaska Gas Storage to be effective 11/20/2013.

Filed Date: 11/19/13.

Accession Number: 20131119-5123.

Comments Due: 5 p.m. ET 12/2/13.

Docket Numbers: RP14-190-000.

Applicants: Natural Gas Pipeline Company of America.

Description: Natural Gas Pipeline Company of America LLC submits tariff filing per 154.204: Negotiated Rate—Macquarie to be effective 11/21/2013.

Filed Date: 11/19/13.

Accession Number: 20131119-5125.

Comments Due: 5 p.m. ET 12/2/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP14-175-001.

Applicants: East Tennessee Natural Gas, LLC.

Description: East Tennessee Natural Gas, LLC submits tariff filing per 154.205(b): Errata to Modification of Posting Deadline to be effective 12/20/2013.

Filed Date: 11/19/13.

Accession Number: 20131119-5114.

Comments Due: 5 p.m. ET 12/2/13.

Docket Numbers: RP14-176-001.

Applicants: Saltville Gas Storage Company L.L.C.

Description: Saltville Gas Storage Company L.L.C. submits tariff filing per 154.205(b): Errata to Modification of Posting Deadline to be effective 12/20/2013.

Filed Date: 11/19/13.

Accession Number: 20131119-5121.

Comments Due: 5 p.m. ET 12/2/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2013.
Nathaniel J. Davis, Sr.,
Deputy Secretary.

[FR Doc. 2013-28631 Filed 11-27-13; 8:45 am]

BILLING CODE 6717-01-P